DEPARTMENT OF THE INTERIOR

National Park Service

Fire Management Plan, Environmental Impact Statement, Big Bend National Park, Texas

AGENCY: National Park Service, Department of the Interior.

ACTION: Notice of intent to prepare an environmental impact statement for the Fire Management Plan, Big Bend National Park.

SUMMARY: Under the provisions of the National Environmental Policy Act of 1969, the National Park Service is preparing an environmental impact statement for the Fire Management Plan for Big Bend National Park. This cooperative effort among park staff, other Federal and State agencies, non-profit organizations, and the public, is expected to result in a comprehensive management plan that protects life, property, and cultural resources; provides opportunities for visitor interpretation; and returns natural processes to park ecosystems. In cooperation with neighboring property owners attention will also be given to resources outside the boundaries that affect the integrity of Big Bend National Park. The international border forms the park's southern boundary, and coordination with Mexico is also integral to the fire management program. There are four Fire Management Alternatives being considered. These are No-Action, Full Suppression, Full Wildland Fire Use, and Progressive Fire Use. The No Action alternative maintains the current management direction of suppressing fires in the high Chisos and on park boundaries, along Rio Grande and around inholdings. Fire may be allowed to burn under pre-determined conditions in the rest of the park. The Full Suppression alternative suppresses all ignitions, while the Full Wildland Fire Use alternative allows for the use of naturally ignited fires to reduce fuels and benefit ecosystems except around developed areas, sensitive resources, and portions of the park boundary. The final alternative is Progressive Fire Use. It is similar to the Full Wildland Fire Use in that sensitive areas receive protection, and allows the use of prescribed and natural ignitions in the park. Unlike the Full Wildland Fire Use alternative; however, its application would be initially limited with expansion based on monitoring of prescribed fire projects and research results. Such information would help managers develop effective prescriptions for managing fires to meet ecological goals.

Major issues for fire management in the park include:

• Safety of firefighters, the public, and park staff;

• Persistence of unique habitats;

• Preservation of high quality visitor experiences;

• Maintenance of populations of threatened and endangered species;

• Control of the spread of exotic plant species;

• Concerns of neighboring landowners;

• Impacts on local communities and their economies;

• Protection of historic and prehistoric cultural resources and cultural landscapes.

A scoping newsletter has been prepared that details the issues identified to date. The newsletter will also announce the locations, times and dates of public scoping meetings that will be held in Alpine, TX and Study Butte, TX. The newsletter is available for downloading as a pdf document from Big Bend National Park's expanded Web site at www.nps.gov/bibe/press.htm or to obtain a paper copy call or write Richard Gatewood, Fire Ecologist, P.O. Box 368 Alpine, Texas 79830, Phone: (915)837-7056 e-mail: Richard_Gatewood@nps.gov.

DATES: Public scoping meetings are to be held in the towns of Study Butte, TX and Alpine, TX at locations, times and dates to be published in the scoping newsletter mentioned above. The National Park Service will accept comments from the public for 30 days from the date this notice is published in the Federal Register.

ADDRESSES: Information will be available for public review and comment in the Office of the Superintendent, Frank Deckert, Big Bend National Park, P.O. Box 129 Big Bend National Park, TX 79834 phone: (915) 477-2251.

FOR FURTHER INFORMATION CONTACT: Richard Gatewood, Fire Ecologist, Big Bend National Park, P.O. Box 368 Alpine, TX 79830, phone: (915) 837-7056, email: Richard_Gatewood@nps.gov.

SUPPLEMENTARY INFORMATION: If you wish to comment on the scoping newsletter or on any other issues associated with the plan, you may submit your comments by any one of several methods. You may mail comments to Superintendent P.O. Box 129 Big Bend National Park, TX 79830. You may also comment via the Internet to BIBE_Superintendent@nps.gov. Please submit Internet comments as an ASCII file avoiding the use of special characters and any form of encryption. Please also include “Attn: Superintendent” and your name and return address in your Internet message and please indicate if you want confirmation that we received your comments. If you do not receive a confirmation that we have received your Internet message, contact directly Richard Gatewood, Fire Ecologist at (915) 837-7056. Finally, you may hand-deliver comments to Visitor's Center and Park Headquarters, Route 11, Panther Junction, Big Bend National Park. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: April 14, 2003.
Michael D. Synder,
Director, Intermountain Region, National Park Service.

[FR Doc. 03-14638 Filed 6-10-03; 8:45 am]

BILLING CODE 4310-AY-P